DEPARTMENT OF ENERGY

Federal Energy Regulatory Commission

[Project No. 2197-064]

Notice of Application for Non-Project Use of Project Lands and Soliciting Comments, Motions To Intervene, and Protests

July 29, 2003.

Take notice that the two following application has been filed with the Commission and are available for public inspection:

a. Application Type: Non-Project Use of Project Lands.

b. Project No: 2197-064.

c. Date Filed: June 24, 2003.

d. Applicant: Alcoa Power Generating Inc.

e. Name of Project: Yadkin Project.

f. Location: The project is located on the Yadkin/Pee Dee River in Montgomery, Stanley, Davidson, Rowan, and Davie Counties, North Carolina.

g. Filed Pursuant to: Federal Power Act, 16 U.S.C. 791 (a) 825(r) and 799 and 801.

h. Applicant Contact: Mr. David R. Poe, BeBoeuf, Lamb, Greene, & MacRae, LLP, Suite 1200, 1875 Connecticut Avenue, NW., Washington, DC 20009-5728, (202) 986-8039.

i. FERC Contact: Any questions on this notice should be addressed to Ms. Shana High at (202) 502-8674, or e-mail address: shana.high@ferc.gov.

j. Deadline for filing comments and or motions: August 29, 2003.

All documents (original and eight copies) should be filed with: Ms. Magalie Roman Salas, Secretary, Federal Energy Regulatory Commission, 888 First Street, NE., Washington DC 20426. Please include the project number (P-2197-064) on any comments or motions filed. Comments, protests, and interventions may be filed electronically via the Internet in lieu of paper. See 18 CFR 385.2001(a)(1)(iii) and the instructions on the Commission's Web site under the “e-Filing” link. The Commission strongly encourages e-filings.

k. Description of Request:

Alcoa Power Generating Inc. (APGI) is seeking Commission authorization to issue a permit for non-project use of project lands and waters. The permit would be issued to Lake Forest of Badin Lakes, Inc. for the modification and use of an existing marina to accommodate a total of 51 watercraft within the project boundary on Narrows Reservoir, located in Davidson, Stanly, and Montgomery Counties.

l. Location of the Application: This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. 03-19834 Filed 8-4-03; 8:45 am]

BILLING CODE 6717-01-P